DEPARTMENT OF HEALTH AND HUMAN SERVICES

Administration for Children and Families

Proposed Information Collection Activity; Comment Request

Proposed Projects

Title: Computerized Support Enforcement Systems—NPRM.

OMB No.: 0980-0271.

Description: The information being collected is mandated by section 454(16) of the Social Security Act (the Act), which provides for the establishment and operation by State agencies, in accordance with an initial and annually updated Advance Planning Document (APD) approved under section 452(d) of the Act, of a statewide system meeting the requirements of section 454A of the Act. In addition, section 454A(e)(1) of the Act requires that States create a State Case Registry (SCR) within their statewide automated child support systems to include information on IV-D cases and non-IV-D orders established or modified in the State on or after October 1, 1998. Section 454A(e)(5) of the Act requires States to regularly update their cases in the SCR.

This notice reflects the new transactions set for SCR to Federal Case Registry (FCR) transactions where States are encouraged, but not required, to submit data from their SCR to the FCR.

The data being collected for the APD are a combination of narratives, budgets and schedules, which are used to provide funding approvals on an annual basis and to monitor and oversee systems development. Child support has separate regulations under 45 CFR 307.15 related to submitted of APDs because the program had supplemental authority for enhanced funding for systems development, and has substantial penalties for noncompliance with the statutory deadline of October 1, 2000. This information collection reflects the fact that 52 states and Territories are now certified as meeting the automation requirements of the Family Support Act of 1988 (FSA) and the Personal Responsibilities and Work Opportunity Act of 1996 (PRWORA), leaving only two States that are not yet PRWORA systems certified and only one state that has not submitted an Implementation APD for compliance with PRWORA automation. States and Territories that opted to keep their APD for child support systems are covered under separate Information Collection, OMB No. 0992-0005, for 45 CFR part 95 subpart F.

The data being collected for the SCR is used to transmit mandatory data elements to the FCR where it is used for matching against other databases for the purposes of location of individuals, assets, employment and other child support related activities.

Respondents: State and Territorial Child Support Agencies.

Annual Burden Estimates
Instrument | Number of respondents | Number of responses per respondent | Average burden hours per response | Total burden hours
307.15 Implementation APD | 1 | 1 | 240 | 240
307.15 (APD) Update | 2 | 1 | 60 | 120
307.11(e)(1)(ii) Collection of non-IV-D data for SCR: States | 54 | 25,200 | .046 | 62,597
Collection of Child Data for IV-D cases for the SCR: States | 54 | 12,000 | .083 | 53,784
307.11(e)(1)(ii) Collection of non-IV-D data for SCR: Courts | 3,045 | 447 | .029 | 39,472
307.11(e)(3)(v) Collection of Child Data for IV-D cases for SCR: Courts | 3,045 | 213 | .083 | 53,833
307.11(f)(1) Case Data Transmitted from SCR to FCR: New cases and case updates | 54 | 52 | 2.82 | 7,919

Estimated Total Annual Burden Hours: 217,965.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: July 18, 2007.
Robert Sargis,
Reports Clearance Officer.

[FR Doc. 07-3581 Filed 7-23-07; 8:45 am]

BILLING CODE 4184-01-M